DEPARTMENT OF COMMERCE

National Oceanic and Atmospheric Administration

RIN 0648-XD840

New England Fishery Management Council; Public Meeting

AGENCY: National Marine Fisheries Service (NMFS), National Oceanic and Atmospheric Administration (NOAA), Commerce.

ACTION: Notice; public meeting.

SUMMARY: The New England Fishery Management Council's (Council) Scientific and Statistical Committee (SSC) will meet to consider actions affecting New England fisheries in the exclusive economic zone (EEZ).

DATES: The meeting will be held on Tuesday, April 7, 2015 at 9 a.m.

ADDRESSES: The meeting will be held at the Courtyard by Marriott/Boston Logan Airport, 225 McClellan Highway, Boston, MA 02128; telephone: (617) 569-5250.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda items:

The Committee will receive a report from Northeast Fisheries Science Center Regime Shifts Working Group and possibly develop comments for consideration by the Council on implications. They will also receive a report and presentation on the NOAA Fisheries Draft Climate Science Strategy and develop comments for Council consideration. The SSC will also receive a presentation on changes to Magnuson-Stevens Act National Standard Guidelines proposed by NMFS/NOAA and develop comments for the Council's consideration.

Additionally, they will receive a brief update on the development of guidelines for 5-year reviews of catch-share programs as well as a report on the National SSC V Workshop outcomes. The committee will address other business as necessary.

Although non-emergency issues not contained in this agenda may be discussed, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: March 16, 2015.
Tracey L. Thompson,
Acting Deputy Director, Office of Sustainable Fisheries, National Marine Fisheries Service.

[FR Doc. 2015-06306 Filed 3-18-15; 8:45 am]

BILLING CODE 3510-22-P